DEPARTMENT OF ENERGY

Federal Energy Regulatory Commission

Combined Notice of Filings #1

Take notice that the Commission received the following exempt wholesale generator filings:

Docket Numbers: EG22-41-000.

Applicants: Snyder ESS Assets, LLC.

Description: Notice of Self-Certification of Exempt Wholesale Generator Status of Snyder ESS Assets, LLC.

Filed Date: 1/18/22.

Accession Number: 20220118-5133.

Comment Date: 5 p.m. ET 2/8/22.

Docket Numbers: EG22-42-000.

Applicants: Westover ESS Assets, LLC.

Description: Notice of Self-Certification of Exempt Wholesale Generator Status.

Filed Date: 1/18/22.

Accession Number: 20220118-5135.

Comment Date: 5 p.m. ET 2/8/22.

Docket Numbers: EG22-43-000.

Applicants: Sweetwater ESS Assets, LLC.

Description: Notice of Self-Certification of Exempt Wholesale Generator Status of Sweetwater ESS Assets, LLC.

Filed Date: 1/18/22.

Accession Number: 20220118-5136.

Comment Date: 5 p.m. ET 2/8/22.

Take notice that the Commission received the following electric rate filings:

Docket Numbers: ER20-1739-002.

Applicants: American Transmission Systems, Incorporated, PJM Interconnection, L.L.C.

Description: Compliance filing: American Transmission Systems, Incorporated submits tariff filing per 35: ATSI submits Order No. 864 Compliance Filing in ER20-1739 to be effective 1/27/2020.

Filed Date: 1/18/22.

Accession Number: 20220118-5185.

Comment Date: 5 p.m. ET 2/8/22.

Docket Numbers: ER21-1635-004.

Applicants: PJM Interconnection, L.L.C.

Description: Compliance filing: Compliance Filing re Black Start Revisions to Tariff, Schedule 6A to be effective 6/6/2021.

Filed Date: 1/14/22.

Accession Number: 20220114-5223.

Comment Date: 5 p.m. ET 2/4/22.

Docket Numbers: ER21-2423-003.

Applicants: Generation Bridge Connecticut Holdings, LLC.

Description: Tariff Amendment: Response to Deficiency Letter to be effective 7/15/2021.

Filed Date: 1/12/22.

Accession Number: 20220112-5118.

Comment Date: 5 p.m. ET 1/24/22.

Docket Numbers: ER21-2423-003; ER21-2424-003.

Applicants: Generation Bridge M&M Holdings, LLC, Generation Bridge Connecticut Holdings, LLC.

Description: Generation Bridge Connecticut Holdings, LLC et al submit a request for a shortened comment period to the January 12 Response to the December 22, 2021 deficiency letter of no more than ten days or by January 22, 2022.

Filed Date: 1/14/22.

Accession Number: 20220114-5284.

Comment Date: 5 p.m. ET 1/24/22.

Docket Numbers: ER21-2424-003.

Applicants: Generation Bridge M&M Holdings, LLC.

Description: Tariff Amendment: Response to Deficiency Letter to be effective 7/15/2021.

Filed Date: 1/12/22.

Accession Number: 20220112-5120.

Comment Date: 5 p.m. ET 1/24/22.

Docket Numbers: ER22-24-001.

Applicants: System Energy Resources, Inc.

Description: Tariff Amendment: SERI UPSA Pension Filing Deficiency Response to be effective 12/1/2021.

Filed Date: 1/14/22.

Accession Number: 20220114-5227.

Comment Date: 5 p.m. ET 2/4/22.

Docket Numbers: ER22-828-000.

Applicants: Southwest Power Pool, Inc.

Description: § 205(d) Rate Filing: 3761R1 KEPCO NITSA NOA; 2463R2 KEPCO Cancellation; and 2451R5 KEPCO Cancellation to be effective 1/1/2022.

Filed Date: 1/14/22.

Accession Number: 20220114-5231.

Comment Date: 5 p.m. ET 2/4/22.

Docket Numbers: ER22-829-000.

Applicants: AEP Texas Inc.

Description: § 205(d) Rate Filing: AEPTX-LCRA TSC Crane Facilities Development Agreement to be effective 1/5/2022.

Filed Date: 1/18/22.

Accession Number: 20220118-5003.

Comment Date: 5 p.m. ET 2/8/22.

Docket Numbers: ER22-830-000.

Applicants: PJM Interconnection, L.L.C.

Description: § 205(d) Rate Filing: Amendment to ISA, Service Agreement No. 6108; Queue No. AE1-183 to be effective 6/17/2021.

Filed Date: 1/18/22.

Accession Number: 20220118-5087.

Comment Date: 5 p.m. ET 2/8/22.

Docket Numbers: ER22-831-000.

Applicants: Southwest Power Pool, Inc.

Description: § 205(d) Rate Filing: 2824R7 KMEA & Sunflower Meter Agent Agreement to be effective 1/1/2022.

Filed Date: 1/18/22.

Accession Number: 20220118-5090.

Comment Date: 5 p.m. ET 2/8/22.

Docket Numbers: ER22-833-000.

Applicants: Southern California Edison Company.

Description: Compliance filing: Order 864 ADIT Compliance Filing to be effective 1/27/2020.

Filed Date: 1/18/22.

Accession Number: 20220118-5148.

Comment Date: 5 p.m. ET 2/8/22.

Docket Numbers: ER22-834-000.

Applicants: PacifiCorp.

Description: § 205(d) Rate Filing: OATT Revised LGIP Sections 36, 38, 39, 42, 43, 46, 48, Attachment N & O, Tariff to be effective 4/1/2022.

Filed Date: 1/18/22.

Accession Number: 20220118-5186.

Comment Date: 5 p.m. ET 2/8/22.

Docket Numbers: ER22-835-000.

Applicants: PJM Interconnection, L.L.C.

Description: § 205(d) Rate Filing: Original WMPA, SA No. 6310; Queue No. AG1-086 to be effective 1/5/2022.

Filed Date: 1/18/22.

Accession Number: 20220118-5187.

Comment Date: 5 p.m. ET 2/8/22.

Docket Numbers: ER22-836-000.

Applicants: PacifiCorp.

Description: § 205(d) Rate Filing: OATT Revised Attachment H-1 (Updates Form 1 Source References 2022) to be effective 3/20/2022.

Filed Date: 1/18/22.

Accession Number: 20220118-5202.

Comment Date: 5 p.m. ET 2/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2022.
Kimberly D. Bose,
Secretary.

[FR Doc. 2022-01320 Filed 1-24-22; 8:45 am]

BILLING CODE 6717-01-P